ENVIRONMENTAL PROTECTION AGENCY

[ER-FRL-8587-2]

Environmental Impact Statements and Regulations; Availability of EPA Comments

Availability of EPA comments prepared pursuant to the Environmental Review Process (ERP), under Section 309 of the Clean Air Act and Section 102(2)(c) of the National Environmental Policy Act as Amended.

Requests for copies of EPA comments can be directed to the Office of Federal Activities at 202-564-7157. An explanation of the ratings assigned to draft environmental impact statements (EISs) was published in FR dated April 6, 2008 (73 FR 19833).

Draft EISs

EIS No. 20080326, ERP No. DS-FHW-E40165-NC, US 74 Relocation, from US-129 in Robbinsville to NC 28 in Stecoah, Funding and U.S. Army COE Section 404 Permit, Transportation Improvement Program Project No. A-9 B&C, Graham County, NC.

Summary: EPA has environmental objections to the proposed project regarding significant impacts to wetlands and high quality streams. EPA also believes there are significant and unaddressed construction impacts resulting from the proposed 2,870-foot tunnel under the Appalachian Trail at Stecoah Gap. Furthermore, EPA believes there are significant and unresolved impacts to residences, water supplies, terrestrial forests, NFS lands, aquatic habitat, air quality, and noise receptors. Rating EO2.

Final EISs

EIS No. 20080274, ERP No. F-CGD-E03017-FL, Calypso Liquefied Natural Gas (LNG) Deepwater Port License Application, Proposes to Own, Construct and Operate a Deepwater Port, Outer Continental Shelf (OCS) in the OCS NG 17-06 (Bahamas) Lease Area, 8 to 10 miles off the East Coast of Florida to the Northeast of Port Everglades, FL.

Summary: EPA expressed environmental concerns about pipeline impacts and impacts related to fuel use onboard the purpose-built Storage and Regasification Ship.

EIS No. 20080287, ERP No. F-BLM-J65490-UT, Moab Field Office Planning Area, Resource Management Plan, Implementation, Grand and San Juan Counties, UT.

Summary: EPA continues to have environmental concerns about impacts to air quality from oil and gas development, impacts from motorized vehicle travel on natural resources, and impacts on Areas of Critical Environmental Concern.

EIS No. 20080310, ERP No. F-COE-E11060-NC, West Onslow Beach and New River Inlet (Topsail Beach) Shore Protection Project, Storm Damages and Beach Erosion Reduction, Funding, Pender County, NC.

Summary: EPA continues to have environmental concerns about impacts on marine habitats and migratory species from dredging and filling. EPA requested adaptive management and water quality monitoring of the borrow areas.

EIS No. 20080316, ERP No. F-BLM-J65436-UT, Vernal Field Office Resource Management Plan, To Revise and Integrate the Book Cliff and Diamond Mountain Resource Management Plans, and Analyzing the Management of Non-Wilderness Study Area Lands with Wilderness Characteristic, Implementation, Daggett, Duchesne, Uintah, and Grand Counties, UT.

Summary: EPA continues to have environmental concerns about impacts to air quality from oil and gas development, impacts from motorized vehicle to natural resources and impacts to Areas of Critical Environmental Concern.

EIS No. 20080322, ERP No. F-NRC-E06024-GA, Vogtle Electric Generating (NUREG 1872) Plant Site, Early Site Permit (ESP), for the Construction and Operation of a new Nuclear Power Generating Facility Application Approval, Burke County, GA.

Summary: EPA continues to have environmental concern about bioentrainment and other impacts to aquatic species from surface water withdrawals and discharges.

EIS No. 20080328, ERP No. F-BLM-J65418-UT, Price Field Resource Management Plan, Selection of Preferred Alternative D, Non-Wilderness Study Area (WSA) Lands with Wilderness Characteristics, Implementation, Carbon and Emery Counties, UT.

Summary: EPA continues to have environmental concerns about impacts to air quality from oil and gas development, impacts to Areas of Critical Environmental Concern and on wild and scenic river management.

EIS No. 20080362, ERP No. F-AFS-J65505-CO, Durango Mountain Resort Improvement Plan, Special-Use-Permits, Implementation, San Juan National Forest, La Plata and San Juan Counties, CO.

Summary: EPA continues to have environmental concerns about potential adverse impacts to water quality, wetlands, especially forested wetlands, and lynx habitat.

EIS No. 20080363, ERP No. F-AFS-K65277-CA, Modoc National Forest Noxious Weed Treatment Project, Proposes to Implement a Control and Eradication Project, Lassen, Modoc and Siskiyou Counties, CA.

Summary: EPA continues to have environmental concerns about potential impacts to groundwater from herbicides with high leaching potential.

EIS No. 20080376, ERP No. F-NOA-K39102-CA, Cordell Bank, Gulf of the Farallones and Monterey Bay National Marine Sanctuaries, Proposes a Series of Regulatory Changes, Offshore of Northern/Central, CA.

Summary: No formal comment letter was sent to the preparing agency.

EIS No. 20080387, ERP No. F-NPS-J61112-CO, Curecanti National Recreation Area Resource Protection Study, Gunnison and Montrose Counties, CO.

Summary: No formal comment letter was sent to the preparing agency.

Dated: October 28, 2008.
Robert W. Hargrove,
Director, NEPA Compliance Division, Office of Federal Activities.

[FR Doc. E8-26031 Filed 10-30-08; 8:45 am]

BILLING CODE 6560-50-P